LEGAL SERVICES CORPORATION

Sunshine Act Meeting

DATE AND TIME: The Legal Services Corporation's Board of Directors will meet telephonically on November 22, 2019. The meeting will commence at 3:00 p.m. Eastern Time and will continue until the conclusion of the Committee's agenda.

LOCATION: John N. Erlenborn Conference Room, Legal Services Corporation Headquarters, 3333 K Street NW, Washington, DC 20007.

PUBLIC OBSERVATION: Members of the public who are unable to attend in person but wish to listen to the public proceedings may do so by following the telephone call-in directions provided below.

CALL-IN DIRECTIONS FOR OPEN SESSIONS:

• Call in number: 1-866-451-4981;

• When prompted, enter the following numeric pass code: 932-809-0043

• When connected to the call, please immediately “MUTE” your telephone.

Members of the public are asked to keep their telephones muted to eliminate background noises. To avoid disrupting the meeting, please refrain from placing the call on hold if doing so will trigger recorded music or other sound. From time to time, the Chair may solicit comments from the public.

STATUS OF MEETING: Open.

MATTERS TO BE CONSIDERED:

1. Approval of agenda.

2. Consider and act on the Board of Directors' transmittal to accompany the Inspector General's Semiannual Report to Congress for the period of April 1, 2019 through September 30, 2019.

3. Public comment.

4. Consider and act on other business.

5. Consider and act on adjournment of meeting.

CONTACT PERSON FOR INFORMATION: Karly Satkowiak, Special Counsel, at (202) 295-1633. Questions may be sent by email to satkowiakk@lsc.gov.

ACCESSIBILITY: LSC complies with the Americans with Disabilities Act and Section 504 of the 1973 Rehabilitation Act. Upon request, meeting notices and materials will be made available in alternative formats to accommodate individuals with disabilities. Individuals needing other accommodations due to disability in order to attend the meeting in person or telephonically should contact Karly Satkowiak, at 202-295-1633 or satkowiakk@lsc.gov, at least 2 business days in advance of the meeting.

If a request is made without advance notice, LSC will make every effort to accommodate the request but cannot guarantee that all requests can be fulfilled.

Dated: November 18, 2019.
Stefanie Davis,
Senior Assistant General Counsel .

[FR Doc. 2019-25369 Filed 11-19-19; 11:15 am]

BILLING CODE 7050-01-P